NATIONAL AERONAUTICS AND SPACE ADMINISTRATION

[Notice (03-035)]

Notice of Prospective Patent License

AGENCY: National Aeronautics and Space Administration.

ACTION: Notice of prospective patent license.

SUMMARY: NASA hereby gives notice that SeatSignal, Incorporated, of Atlanta, Georgia, has applied for an exclusive license to practice the invention described in NASA Case Numbers LAR 16324-1 and LAR 16324-1-PCT entitled “Self-Activating System And Method For Alerting When An Object Or A Person Is Left Unattended,” for which a U.S. Patent Application was filed and assigned to the United States of America as represented by the Administrator of the National Aeronautics and Space Administration. Written objections to the prospective grant of a license should be sent to Langley Research Center. NASA has not yet made a determination to grant the requested license and may deny the requested license even if no objections are submitted within the comment period.

DATES: Responses to this notice must be received by April 16, 2003.

FOR FURTHER INFORMATION CONTACT: Kurt G. Hammerle, Patent Attorney, Langley Research Center, Mail Stop 212, Hampton, VA 23681-2199. Voicemail: 757-864-2470, Facsimile: 757-864-9190.

Dated: March 25, 2003.
Robert M. Stephens,
Deputy General Counsel.

[FR Doc. 03-7757 Filed 3-31-03; 8:45 am]

BILLING CODE 7510-01-P